DEPARTMENT OF TRANSPORTATION

Federal Aviation Administration

14 CFR Part 71

[Docket No. FAA-2024-2370; Airspace Docket No. 23-ASW-18]

RIN 2120-AA66

Amendment of Class D Airspace; Dallas, TX

AGENCY: Federal Aviation Administration (FAA), DOT.

ACTION: Final rule; correction.

SUMMARY: This action corrects final rule typographic errors published in the Federal Register on July 30, 2024. Subsequent to publication, the FAA identified that the final rule was published with the incorrect docket number.

DATES: The effective date of the final rule published on July 30, 2024 (89 FR 61012; corrected September 30, 2024 (89FR79429)) remains October 31,2024 0901 UTC. This correction is effective November 19, 2024.

ADDRESSES: A copy of this final rule, and all background material may be viewed online at www.regulations.gov using the FAA Docket number. Electronic retrieval help and guidelines are available on the website. It is available 24 hours each day, 365 days each year.

FOR FURTHER INFORMATION CONTACT: Rebecca Shelby, Federal Aviation Administration, Operations Support Group, Central Service Center, 10101 Hillwood Parkway, Fort Worth, TX 76177; telephone (817) 222-5857.

SUPPLEMENTARY INFORMATION:

History

The FAA published a final rule in the Federal Register (89 FR 61012; July 30, 2024). Subsequent to publication, the FAA identified that the final rule was published with the incorrect docket number. The action corrects this error in the document headings and preamble by replacing the incorrect docket number, FAA-2023-2362, with the correct one, FAA-2024-2370.

Correction to Final Rule

Accordingly, pursuant to the authority delegated to me, the preamble for the final rule amending of Class D airspace at Dallas, TX, published in the Federal Register on July 30, 2024 (89 FR 61012), is corrected as follows:

1. On page 61012 in column 2 in the document headings, revise the document identification numbers to read as follows:

[Docket No. FAA-2024-2370; Docket No. 23-ASW-18]

2. On page 61012 in column 3, revise the first sentence under the heading “History” to read as follows:

The FAA published an NPRM for Docket No. FAA-2024-2370 in the Federal Register (89 FR 14601; February 28, 2024) proposing to amend the Class D airspace at Dallas, TX.

Issued in Fort Worth, Texas, on November 4, 2024.
Martin A. Skinner,
Acting Manager, Operations Support Group, ATO Central Service Center.

[FR Doc. 2024-25893 Filed 11-18-24; 8:45 am]

BILLING CODE 4910-13-P